EXPORT-IMPORT BANK

[Public Notice 2019-6008]

Agency Information Collection Activities: Comment Request

SUMMARY: The Export-Import Banks of the United States (EXIM), as part of its continuing effort to reduce paperwork and respondent burden, invites the general public and other Federal Agencies to comment on the proposed information collection, as required by the Paperwork Reduction Act of 1995. This collection of information is necessary to determine eligibility of the underlying export transaction for EXIM insurance coverage.

DATES: Comments must be received on or before June 7, 2019 to be assured of consideration.

ADDRESSES: Comments may be submitted electronically on WWW.REGULATIONS.GOV (EIB 92-41) or by email to Mia.Johnson@exim.gov or by mail to Mia L. Johnson, Export-Import Bank of the United States, 811 Vermont Ave. NW, Washington, DC 20571. The information collection tool can be reviewed at: https://www.exim.gov/sites/default/files/pub/pending/eib92-41.pdf.

SUPPLEMENTARY INFORMATION:

Title and Form Number: EIB 92-41 Application for Financial Institution Short-Term, Single-Buyer Insurance.

OMB Number: 3048-0019.

Type of Review: Renewal.

Need and Use: The Application for Financial Institution Short-term Single-Buyer Insurance form will be used by financial institution applicants to provide EXIM with the information necessary to determine if the subject transaction is eligible for EXIM insurance coverage.

Affected Public: This form affects entities involved in the export of U.S. goods and services.

Annual Number of Respondents: 215.

Estimated Time per Respondent: 1.6 hours.

Annual Burden Hours: 344.

Frequency of Reporting of Use: Annual.

Government Expenses:

Reviewing Time per Year: 1,290 hours.

Average Wages per Hour: $42.50.

Average Cost per Year: $54,825 (time*wages).

Benefits and Overhead: 20%.

Total Government Cost: $65,790.

Bassam Doughman,
IT Specialist.

[FR Doc. 2019-06798 Filed 4-5-19; 8:45 am]

BILLING CODE 6690-01-P